DEPARTMENT OF AGRICULTURE

Office of the Secretary

[Docket No. APHIS-2008-0039]

Privacy Act Systems of Records; APHIS Emergency Management Response System

AGENCY: Office of the Secretary, USDA.

ACTION: Notice of a proposed new system of records; request for comment.

SUMMARY: The U.S. Department of Agriculture proposes to add a system of records to its inventory of records systems subject to the Privacy Act of 1974, as amended. The system of records being proposed is the APHIS Emergency Management Response System. This notice is necessary to meet the requirements of the Privacy Act to publish in the Federal Register notice of the existence and character of record systems maintained by the agency.

Although the Privacy Act requires only that the portion of the system which describes the “routine uses” of the system be published for comment, we invite comment on all portions of this notice.

DATES: Effective Date: This system will be adopted without further notice on June 9, 2008 unless modified to respond to comments received from the public and published in a subsequent notice.

Comment date: Comments must be received, in writing, on or before May 30, 2008.

ADDRESSES: You may submit comments by either of the following methods:

• Federal eRulemaking Portal: Go to: http://www.regulations.gov/fdmspublic/component/main?main=DocketDetail&d=APHIS-2008-0039 and follow the instructions for submitting comments.

• Postal Mail/Commercial Delivery: Docket No. APHIS-2008-0039, Regulatory Analysis and Development, PPD, APHIS, Station 3A-03.8, 4700 River Road Unit 118, Riverdale, MD 20737-1238.

Docket: You may view any comments we receive at the Federal eRulemaking Portal (Web address above) or in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Jose R. Diez, Associate Deputy Administrator-Emergency Management and Diagnostics, VS, APHIS, 4700 River Road Unit 41, Riverdale, MD 20737; (301) 734-8073.

SUPPLEMENTARY INFORMATION: The Privacy Act of 1974, as amended (5 U.S.C. 552a), requires agencies to publish in the Federal Register notice of new or revised systems of records maintained by the agency. A system of records is a group of any records under the control of any agency, from which information is retrieved by the name of an individual or by some identifying number, symbol, or other identifying particular assigned to an individual.

The Animal and Plant Health Inspection Service (APHIS) of the U.S. Department of Agriculture (USDA) is proposing to add a new system of records, entitled Emergency Management Response System (EMRS), that will be used to maintain records of activities conducted by the agency pursuant to its mission and responsibilities authorized by the Animal Health Protection Act (7 U.S.C. 8301 et seq.).

APHIS's Veterinary Services (VS) program uses the EMRS to help manage and investigate incidents of foreign animal diseases in the United States. If a foreign animal disease were to be detected in the United States, VS would activate its Incident Command System (ICS). ICS team members are trained to control and eradicate foreign animal diseases. As necessary and appropriate for the specific incident, team members would confirm the presence of the disease, inspect infected and exposed animals, appraise the value of animals that may have to be destroyed, conduct vaccination programs and epidemiological studies, dispose of animal carcasses, and clean and disinfect premises, among other things. Records of these activities would be maintained in the EMRS.

The EMRS contains personally identifiable information about the owner or operator of the premises where the animal(s) subject to investigation are located. Such information includes name; address, including city, county, State, postal code, and latitude/longitude coordinates; premises identification number; and telephone number. The EMRS may also contain the name and telephone number of the person(s) who provided the initial report concerning the premises, and the name, telephone number, and e-mail address of the person responsible for the investigation of the premises.

The EMRS also contains information about APHIS employees who may be deployed as members of ICS teams. Such information may include encrypted social security number; home address; home e-mail; emergency contact information; supervisor contact information; skills, experience, and training; position certifications; and medical clearance information.

Routine Uses of Records Maintained in the System, Including Categories of Users and the Purposes of Such Uses

APHIS may routinely share data in the EMRS with certain Federal and State animal health officials to monitor the status of an animal disease investigation, document the actions taken relating to an animal disease investigation, track the status of animals susceptible to foreign animal diseases, determine the costs of an animal disease investigation, monitor the usage and availability of assets and personnel relating to an animal disease investigation, or perform epidemiological and geospatial analyses of such investigations. APHIS may disseminate information to Federal and State animal health officials within the system for educational purposes and to obtain feedback regarding the EMRS program and emergency preparedness guidelines. APHIS may share data with the National Biosurveillance Integration System and the Offshore Pest Information System to aid in monitoring an animal disease investigation. Other routine uses of this information include releases related to investigations pertaining to violations of law or related to litigation. A complete listing of the routine uses for this system is included in the accompanying document that is published along with this notice.

The proposed information collection requests associated with this system have been approved by the Office of Management and Budget under the Paperwork Reduction Act.

Title and Business Address of the Agency Official Responsible for the System of Record

Chief Information Officer, U.S. Department of Agriculture, 1400 Independence Avenue, SW., Washington, DC 20250.

Report on New System

A report on the new system of records, required by 5 U.S.C. 552a(r), as implemented by Office of Management and Budget Circular A-130, was sent to the Chairman, Committee on Homeland Security and Governmental Affairs, United States Senate; the Chairman, Committee on Oversight and Government Reform, U.S. House of Representatives; and the Administrator, Office of Information and Regulatory Affairs, Office of Management and Budget.

Dated: April 21, 2008.
Edward T. Schafer,
Secretary.

System name:

Emergency Management Response System (EMRS), USDA-APHIS-11.

Security classification:

None.

System location:

All EMRS data is maintained on three servers, located in APHIS offices in Riverdale, MD, and at the APHIS Centers for Epidemiology and Animal Health in Ft. Collins, CO.

Categories of individuals covered by the system:

Customers, including the owner or operator of the premises where the animals subject to investigation are located and the referring contact who provided initial premises information; and certain APHIS employees.

Categories of records in the system:

For the owner or operator of the premises where the animals subject to investigation are located, the following information will be retained: Name; address, including city, county, State, postal code, and latitude/longitude coordinates; premises identification number; and telephone number. Information retained about the referring contact includes name and telephone number. For the case coordinator of the premises investigation the following information will be retained: Name, phone number, and e-mail address.

The information retained for APHIS employees includes name; agency, program, and group; current duty assignment; encrypted social security number; grade, series, and step; duty city and state; home address, including latitude/longitude coordinates; home telephone number; home e-mail address; emergency contact information; work and field addresses, e-mail addresses and telephone numbers; supervisor contact information; personal protective equipment type, size, and model; existing and desired skills, experience and training; position certifications; AgLearn training classes; medical clearance information; and a description of property or fleet vehicle assigned to the employee.

Authority for maintenance of the system:

Animal Health Protection Act (7 U.S.C. 8301 et seq.).

Purpose(s):

APHIS Veterinary Services (VS) program uses the EMRS to help manage and investigate incidents of foreign animal diseases in the United States.

Routine uses of records maintained in the system, including categories of users and the purposes of such uses:

In addition to those disclosures generally permitted under 5 U.S.C. 552a(b) of the Privacy Act, records maintained in the system may be disclosed outside USDA as follows:

(1) To certain Federal and State animal health officials to monitor the status of an animal disease investigation, document actions taken relating to an animal disease investigation, track the status of animals susceptible to foreign animal diseases, determine the costs of an animal disease investigation, monitor the usage and availability of assets and personnel relating to animal disease investigations, or perform epidemiological and geospatial analyses of such investigations;

(2) To Federal and State animal health officials within the system to obtain feedback regarding the EMRS system and emergency preparedness guidelines, and to educate and involve them in program development, program requirements, and standards of conduct;

(3) To the National Biosurveillance Integration System and the Offshore Pest Information System to aid in monitoring an animal disease investigation;

(4) To the appropriate agency, whether Federal, State, local, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(5) To the Department of Justice when the agency, or any component thereof, or any employee of the agency in his or her official capacity, or any employee of the agency in his or her individual capacity where the Department of Justice has agreed to represent the employee, or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(6) For use in a proceeding before a court or adjudicative body before which the agency is authorized to appear, when the agency, or any component thereof, or any employee of the agency in his or her official capacity, or any employee of the agency in his or her individual capacity where the agency has agreed to represent the employee, or the United States, where the agency determines that litigation is likely to affect the agency or any of its components, is a party to litigation or has an interest in such litigation, and the agency determines that use of such records is relevant and necessary to the litigation; provided, however, that in each case, the agency determines that disclosure of the records to the court is a use of the information contained in the records that is compatible with the purpose for which the records were collected;

(7) To appropriate agencies, entities, and persons when the agency suspects or has confirmed that the security or confidentiality of information in the system of records has been compromised; the agency has determined that as a result of the suspected or confirmed compromise there is a risk of harm to economic or property interests, a risk of identity theft or fraud, or a risk of harm to the security or integrity of this system or other systems or programs (whether maintained by the agency or another agency or entity) that rely upon the compromised information; and the disclosure made to such agencies, entities, and persons is reasonably necessary to assist in connection with the agency's efforts to respond to the suspected or confirmed compromise and prevent, minimize, or remedy such harm;

(8) To contractors and other parties engaged to assist in administering the program. Such contractors and other parties will be bound by the nondisclosure provisions of the Privacy Act. This routine use assists the agency in carrying out the program, and thus is compatible with the purpose for which the records are created and maintained;

(9) To USDA contractors, partner agency employees or contractors, or private industry employed to identify patterns, trends or anomalies indicative of fraud, waste, or abuse; and

(10) To the National Archives and Records Administration or to the General Services Administration for records management inspections conducted under 44 U.S.C. 2904 and 2906.

Disclosure to consumer reporting agencies:

None.

Policies and practices for storing, retrieving, accessing, retaining, and disposing of records in the system:

Storage:

The electronic master data for the EMRS is stored on servers. Following an animal disease outbreak, data from the investigation may be burned onto compact discs.

Retrievability:

Data regarding an investigation can be retrieved by premises identification number, reference control number, premises name, incident group, or incident site. Data regarding an employee can be retrieved by name, employee identification number, title, organization, property, or fleet vehicle.

Safeguards:

The EMRS security plan includes management, operational, and technical controls to prevent misuse of data by system users. These controls include role-based access. Most individuals have access limited to data from their State or area. Social security number (employee only) and home contact information is viewable and may be updated only by the individual to whom it applies or by individuals with specific roles to view or update these fields.

Retention and disposal:

Routine investigational EMRS data will be retained in the server indefinitely. After an animal disease outbreak, data will be burned onto a compact disc for use by outbreak management personnel and retained indefinitely. Employee data is maintained as long as the individual is employed and may be maintained for up to 5 years after employment ceases in case the employee is reemployed during emergencies.

System managers(s) and address:

Center Leader—Center for Animal Disease Information, Centers for Epidemiology and Animal Health, Veterinary Services, APHIS, USDA, 2150 Centre Avenue, Building B, Fort Collins, CO 80526.

Notification procedure:

Any individual may request general information regarding this system of records or information as to whether the system contains records pertaining to him/her from the system manager at the address above. All inquiries pertaining to this system should be in writing, must name the system of records as set forth in the system notice, and must contain the individual's name, telephone number, address, and e-mail address.

Record access procedures:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road Unit 50, Riverdale, MD 20737-1232.

Contesting record procedures:

Any individual may contest information contained within a record in the system that pertains to him/her by submitting a written request to the system manager at the address above. Include the reason for contesting the record and the proposed amendment to the information with supporting documentation to show how the record is inaccurate.

Record source categories:

Information in this system comes primarily from the customers, including the owner or operator of the premises where the animals subject to investigation are located, and the referring contact who provided initial premises information. Such information may be supplemented by information from an address-validation database, by APHIS personnel during an on-site investigation, by State veterinarian offices, or by APHIS's National Veterinary Services Laboratories.

Employee information is obtained primarily from the employee. Additionally, employee data may be obtained from the USDA's National Finance Center and AgLearn database, and from Federal Occupational Health, U.S. Department of Health and Human Services.

Exemptions claimed for the system:

None.

[FR Doc. E8-9418 Filed 4-29-08; 8:45 am]

BILLING CODE 3410-34-P